DEPARTMENT OF HEALTH AND HUMAN SERVICES

Substance Abuse and Mental Health Services Administration

Center for Substance Abuse Treatment; Notice of Meeting

Pursuant to Pub. L. 92-463, notice is hereby given of a meeting of the Center for Substance Abuse Treatment (CSAT) National Advisory Council to be held in May 2000.

A portion of the meeting will be open and will include a discussion of the Center's National Treatment Plan and an update on the Opiod Accreditation and Buprenorphine activities. Public comments are welcome during the open session. Please communicate with the individual listed as contact below for guidance. If anyone needs special accommodations for persons with disabilities please notify the contact listed below.

If anyone needs special accommodations for persons with disabilities, please notify the Contact listed below.

The meeting will also include the review, discussion, and evaluation of a single source grant application. Therefore a portion of the meeting will be closed to the public as determined by the Administrator, SAMHSA, in accordance with Title 5 U.S.C. 552b(c)(3), (4), and (6) and 5 U.S.C. App. 2, § 10(d).

A summary of the meeting and roster of council members may be obtained from: Mrs. Marjorie Cashion, CSAT, National Advisory Council, Rockwall II Building, Suite 619, 5600 Fishers Lane, Rockville, Maryland 20857, Telephone: (301) 443-8923.

Substantive program information may be obtained from the contact whose name and telephone number is listed below.

Committee Name: Center for Substance Abuse Treatment National Advisory Council.

Meeting Date: May 12, 2000, 8:30 a.m.-5:00 p.m.

Place: Bethesda Marriott Pooks Hill Hotel, 5151 Pooks Hill Road, Bethesda, Maryland 20814.

Closed: May 12, 2000, 8:30 a.m.-9:00 a.m.

Open: May 12, 2000, 9:00 a.m.-5:00 p.m.

Contact: Marjorie M. Cashion, Executive Secretary, Telephone: (301) 443-8923, and FAX: (301) 480-6077.

Dated: April 24, 2000.
Toian Vaughn,
Committee Management Officer, Substance Abuse and Mental Health Services Administration.

[FR Doc. 00-10696 Filed 4-25-00; 8:45 am]

BILLING CODE 4162-20-P